DEPARTMENT OF THE INTERIOR

National Park Service

[2280-665]

National Register of Historic Places; Notification of Pending Nominations and Related Actions

Nominations for the following properties being considered for listing or related actions in the National Register were received by the National Park Service before January 8, 2011. Pursuant to §§ 60.13 or 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service,1201 Eye St., NW., 8th floor, Washington DC 20005; or by fax, 202-371-6447. Written or faxed comments should be submitted by March 1, 2011.

Before including your address, phone number, e-mail address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

ARIZONA

Maricopa County

Temple Beth Israel, 122 E Culver St, Phoenix, 11000043

Pima County

Vail Post Office, Old, 13105 E Colossal Cave Rd, Vail, 11000044

ARKANSAS

Chicot County

Lake Village Commercial Historic District, Roughly bounded by Lakeshore Dr, Jackson St, Chicot St, and Church St, Lake Village, 11000025

DELAWARE

New Castle County

Johnson—Morris House, 41 Upper Pike Creek Rd, Newark, 11000036

ILLINOIS

Coles County

Roytek, Richard, House, 3420 Richmond Ave, Mattoon, 11000030

Cook County

Brown, Roger, Home and Studio, 1926 N Halsted St, Chicago, 11000029

Schurz, Carl, High School, 3601 N Milwaukee Ave, Chicago, 11000031

MASSACHUSETTS

Worcester County

Athol High School, 494 School St, Athol, 11000022

South Union School, 21 Highland St, Southborough, 11000021

Thule—Plummer Buildings, 180 and 184 Main St, Worcester, 11000019

MISSOURI

Jackson County

Burnette—Berry House, 1030 W 65th St, Kansas City, 11000023

Johnson County

Jones Brothers Mule Barn, 101 N College Ave, Warrensburg, 11000045

St. Louis Independent City

Castle Ballroom, 2839-2845 Olive St, St. Louis (Independent City), 11000024

NEW MEXICO

Bernalillo County

Immanuel Presbyterian Church, (Buildings Designed by John Gaw Meem MPS) 114 Carlisle Boulevard SE, Albuquerque, 11000032

NEW YORK

Rensselaer County

Chapel and Cultural Center, 2125 Burdett Ave, Troy, 11000041

Tompkins County

Telluride House, 217 West Ave, Ithaca, 11000042

Westchester County

Booth, Evangeline, House, 101 N Central Ave, Hartsdale, 11000040

Witthoefft House, 11 Tallwood Rd, Armonk, 11000039

PENNSYLVANIA

Bucks County

Shelly School, (Educational Resources of Pennsylvania MPS) 130 Richlandtown Pike (SR 212), Richland Township, 11000037

VIRGINIA

Arlington County

Winslow, Earle Micajah, House, (Streamline Modern Houses in Arlington County, Va 1936-1945 MPS) 2333 N Vernon St, Arlington, 11000028

Loudoun County

Crednal, 34500 Welbourne Rd, Middleburg, 11000034

Virts, William, House, 38670 Old Wheatland Rd, Waterford, 11000027

Lynchburg Independent City

Diamond Hill Baptist Church, 1415 Grace St, Lynchburg (Independent City), 11000026

Virginia University of Lynchburg, 2058 Garfield Ave, Lynchburg (Independent City), 11000035

Washington County

Baker—St. John House, 18254 Providence Rd (Route 611), Abingdon, 11000033

WISCONSIN

Fond Du Lac County

Tygert Street Historic District, Tygert St and Spaulding Ave, generally bounded by Scott St and E Lane St, Ripon, 11000020

OTHER ACTIONS: In the interest of preservation, the comment period for the following resource has been shortened to (3) three days.

MICHIGAN

Washtenaw County

Chelsea Commercial Historic District, Main St and adjacent sections of Middle, Park, Jackson, East, and Orchard Sts, Chelsea, 11000046

[FR Doc. 2011-3193 Filed 2-11-11; 8:45 am]

BILLING CODE 4312-51-P